DEPARTMENT OF THE INTERIOR

National Park Service

[NPS-WASO-NAGPRA-NPS0030600; PPWOCRADN0-PCU00RP14.R50000]

Notice of Inventory Completion: Bruce Museum Inc., Greenwich, CT

AGENCY: National Park Service, Interior.

ACTION: Notice.

SUMMARY: The Bruce Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Bruce Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Bruce Museum at the address in this notice by September 10, 2020.

ADDRESSES: Kirsten J. Reinhardt, NAGPRA Coordinator, Bruce Museum Inc., 1 Museum Drive, Greenwich, CT 06830, telephone (914) 671-9321, email kreinhardt@brucemuseum.org.

SUPPLEMENTARY INFORMATION: Notice is here given in accordance with the Native American Graves Protection and Repatriation Act (NAGPRA), 25 U.S.C. 3003, of the completion of an inventory of human remains under the control of the Bruce Museum, Greenwich, CT. The human remains were removed from the Shorakapock Site in Inwood Hill Park, New York County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Bruce Museum professional staff in consultation with representatives of the Delaware Nation, Oklahoma; Delaware Tribe of Indians; and the Stockbridge Munsee Community, Wisconsin (hereafter referred to as “The Tribes”).

History and Description of the Remains

Around 1930, human remains representing, at minimum, two individuals were removed from the Shorakapock Site in Inwood Hill Park, New York County, NY. The human remains are believed to have been removed by Charles L. Howes, whose brother was Bruce Museum curator Paul G. Howes. A Bruce Museum accession card referencing a donation by Charles Howes to the museum in 1930 states, “Colonial relics, bullets, buttons, etc. from a dump at Inwood Hill Park, NY. Near Indian shell heap.” Human remains consisting of a cranial vault (I.01535.01) belong to a female 20-30 years old. These human remains were varnished and stabilized with copper wire in the Bruce Museum laboratory by curator Paul G. Howes. Human remains consisting of two mandible fragments with dentition, three maxillary fragments with dentition (one of them a shovel-shaped incisor), five loose teeth, one loose root, and six small cranium fragments (I.01535.02) belong to an adult male of unknown age. No known individuals were identified. No associated funerary objects are present. The human remains were determined to be Native American by Connecticut State Archaeologist, Nicholas Bellantoni, who with Ed Sarabia, Tlingit, Indian Affairs Coordinator, Connecticut Commission on Indian Affairs; performed a skeletal and dentition analysis on October 25, 1995.

Although the exact date or pre-contact period associated with this site is unknown, as no reliable temporal indictors were recovered or recorded, the Shorakapock site is well documented in the New York archeological and historical literature. Records from 17th and 18th century documents indicate at least five settlements may been located within or near the Inwood Hill Park vicinity. According to The Cultural Landscape Foundation, the site was inhabited by the Lenape tribe through the seventeenth century and was farmed by European settlers during the 17th and 18th centuries. In the 1930s, Works Progress Administration workers built or paved many of the roads at the site, often following earlier circulation patterns, and in 1954, a boulder and plaque were placed on the former location of a historic tulip tree under which Peter Minuit reportedly purchased Manhattan from the Lenape. Geographical, oral traditional, and historical information support a relationship of shared group identity which can be reasonably traced between the present-day Delaware Nation, Delaware Tribe of Indians, and the Stockbridge Munsee Community, and the pre-contact Eastern Lenni Lenape who inhabited Manhattan Island, New York County, New York, including the Shorakapock site in Inwood Hill Park, at the northernmost tip of the island.

Determinations Made by the Bruce Museum Inc.

Officials of the Bruce Museum Inc. have determined that:

• Pursuant to 25 U.S.C. 3001(9), the human remains described in this notice represent the physical remains of two individuals of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request Kirsten J. Reinhardt, NAGPRA Coordinator, Bruce Museum Inc., 1 Museum Drive, Greenwich, CT 06830, telephone (914) 671-9321, email kreinhardt@brucemuseum.org, by September 10, 2020. After that date, if no additional requestors have come forward, transfer of control of the human remains to The Tribes may proceed.

The Bruce Museum Inc. is responsible for notifying The Tribes that this notice has been published.

Dated: July 7, 2020.
Melanie O'Brien,
Manager, National NAGPRA Program.

[FR Doc. 2020-17490 Filed 8-10-20; 8:45 am]

BILLING CODE 4312-52-P